DEPARTMENT OF ENERGY

Federal Energy Regulatory Commission

[Docket No. EG00-242-000, et al.]

Solar Turbines Incorporated, et al.; Electric Rate and Corporate Regulation Filings

August 16, 2000.

Take notice that the following filings have been made with the Commission:

1. Solar Turbines Incorporated

[Docket No. EG00-242-000]

Take notice that on August 11, 2000, Solar Turbines Incorporated, 2000 Pacific Coast Highway, San Diego, California 92186 (Solar), filed with the Federal Energy Regulatory Commission (Commission) an Application for Determination of Exempt Wholesale Generator Status pursuant to part 365 of the Commission's Regulations and Section 32 of the Public Utility Holding Company Act, as amended (the Application).

The Application seeks a determination that Solar qualifies for Exempt Wholesale Generator status. Solar is a Delaware Corporation that owns and operates a gas-fired combined cycle cogeneration facility rates at 69 MW. Solar historically has engaged in the sale of electricity to Metropolitan Edison Company (Met-Ed) as a Qualifying Facility (QF) under the Public Utility Regulatory Policies Act of 1978 (PURPA). Upon Solar's determination as a EWG, the facility will be used for the generation of electricity exclusively for sale at wholesale.

Copies of this Application have been served upon the Pennsylvania Public Utility Commission and the Securities and Exchange Commission.

Comment date: September 6, 2000, in accordance with Standard Paragraph E at the end of this notice. The Commission will limit its consideration of comments to those that concern the adequacy or accuracy of the application.

2. Allegheny Energy Supply Hunlock Creek, LLC

[Docket No. EG00-243-000]

Take notice that on August 11, 2000, Allegheny Energy Supply Hunlock Creek, LLC filed an Application for Determination of Exempt Wholesale Generator Status pursuant to Section 32(a)(1) of the Public Utility Holding Company Act of 1935, all as more fully explained in the Application.

Comment date: September 6, 2000, in accordance with Standard Paragraph E at the end of this notice.

3. Entergy Services, Inc.

[Docket No. ER00-3394-000]

Take notice that on August 11, 2000, Entergy Services, Inc., on behalf of Entergy Mississippi, Inc., tendered for filing an Interconnection and Operating Agreement with GenPower McAdams LLC (McAdams), and a Generator Imbalance Agreement with McAdams.

Comment date: September 1, 2000, in accordance with Standard Paragraph E at the end of this notice.

4. Virginia Electric and Power Company

[Docket No. ER00-3395-000]

Take notice that on August 11, 2000, Virginia Electric and Power Company (Virginia Power or the Company) tendered for filing the following:

1. Service Agreement for Firm Point-to-Point Transmission Service by Virginia Electric and Power Company to H.Q. Energy Services (U.S.) Inc. designated as Service Agreement No. 293 under the Company's FERC Electric Tariff, Second Revised Volume No. 5.

2. Service Agreement for Non-Firm Point-to-Point Transmission Service by Virginia Electric and Power Company to H.Q. Energy Services (U.S.) Inc. designated as Service Agreement No. 294 under the Company's FERC Electric Tariff, Second Revised Volume No. 5.

The foregoing Service Agreements are tendered for filing under the Open Access Transmission Tariff to Eligible Purchasers effective June 7, 2000. Under the tendered Service Agreements, Virginia Power will provide point-to-point service to H.Q. Energy Services (U.S.) Inc. under the rates, terms and conditions of the Open Access Transmission Tariff.

Virginia Power requests an effective date of August 11, 2000, the date of filing of the Service Agreements.

Copies of the filing were served upon H.Q. Energy Services (U.S.) Inc., the Virginia State Corporation Commission, and the North Carolina Utilities Commission.

Comment date: September 1, 2000, in accordance with Standard Paragraph E at the end of this notice.

5. Commonwealth Edison Company

[Docket No. ER00-3396-000]

Take notice that on August 11, 2000, Commonwealth Edison Company (ComEd), tendered for filing a Short-Term Firm Transmission Service Agreement with UtiliCorp United Inc., (UCU) under the terms of ComEd's Open Access Transmission Tariff (OATT).

ComEd requests an effective date of July 14, 2000 for the Agreement with UCU, and accordingly, seeks waiver of the Commission's notice requirements.

Comment date: September 1, 2000, in accordance with Standard Paragraph E at the end of this notice.

6. Ohio Valley Electric Corporation, Indiana-Kentucky Electric Corporation

[Docket No. ER00-3397-000]

Take notice that on August 11, 2000, Ohio Valley Electric Corporation (including its wholly-owned subsidiary, Indiana-Kentucky Electric Corporation) (OVEC), tendered for filing a Service Agreement for Non-Firm Point-to-Point Transmission Service, dated July 25, 2000 (the Service Agreement) between H.Q. Energy Service (U.S.) Inc. (H.Q. Energy) and OVEC. OVEC proposes an effective date of July 28, 2000 and requests waiver of the Commission's notice requirement to allow the requested effective date. The Service Agreement provides for non-firm transmission service by OVEC to H.Q. Energy.

In its filing OVEC states that the rates and charges included in the Service Agreement are the rate charges set forth in OVEC's Open Access Transmission Tariff.

Copies of this filing were served upon H.Q. Energy.

Comment date: September 1, 2000, in accordance with Standard Paragraph E at the end of this notice.

7. Indianapolis Power & Light Company

[Docket No. ER00-3398-000]

Take notice that on August 11, 2000, Indianapolis Power & Light Company (IPL), tendered for filing service agreements executed under IPL's Open Access Transmission Tariff and an index of customers.

Comment date: September 1, 2000, in accordance with Standard Paragraph E at the end of this notice.

8. Allegheny Energy Service Corporation, on behalf of Allegheny Energy Supply Company, LLC

[Docket No. ER00-3399-000]

Take notice that on August 11, 2000, Allegheny Energy Service Corporation on behalf of Allegheny Energy Supply Company, LLC (Allegheny Energy Supply), tendered for filing Second Revised Service Agreement No. 79 under the Market Rate Tariff to incorporate a Netting Agreement with Conectiv Energy Supply, Inc., into the tariff provisions. Allegheny Energy Supply requests a waiver of notice requirements to make the Netting.

Agreement effective as of July 25, 2000 or such other date as ordered by the Commission.

Copies of the filing have been provided to the Public Utilities Commission of Ohio, the Pennsylvania Public Utility Commission, the Maryland Public Service Commission, the Virginia State Corporation Commission, the West Virginia Public Service Commission, and all parties of record.

Comment date: September 1, 2000, in accordance with Standard Paragraph E at the end of this notice.

9. Solar Turbines Incorporated

[Docket No. ER00-3400-000]

Take notice that on August 11, 2000, Solar Turbines Inc. (Solar), applied to the Commission for exception of Solar's Rate Schedule FERC No. 1; the granting of certain blanket approvals including authority to sell electric at market-based rates and the waiver of certain Commission regulations. Solar intends to engage in wholesale electric power sales from its York facility.

Comment date: September 1, 2000, in accordance with Standard Paragraph E at the end of this notice.

10. Southern Company Services, Inc.

[Docket No. ER00-3401-000]

Take notice that on August 11, 2000, Southern Company Services, Inc., as agent for Alabama Power Company, Georgia Power Company, Gulf Power Company, Mississippi Power Company, and Savannah Electric and Power Company (Southern Companies), tendered for filing the Generator Backup Service Agreement (the Service Agreement) between International Paper Company (International Paper) and Southern Companies under Southern Companies' Generator Backup Service Tariff (FERC Electric Tariff, Original Volume No. 9). The Service Agreement supplies International Paper with unscheduled capacity and energy in connection with sales from its electric generating facility as a replacement for unintentional differences between the facility's actual metered generation and its scheduled generation. The Service Agreement is dated as of July 14, 2000, and shall terminate upon twelve (12) months prior written notice of either party.

Comment date: September 1, 2000, in accordance with Standard Paragraph E at the end of this notice.

11. Commonwealth Edison Company

[Docket No. ER00-3402-000]

Take notice that on August 11, 2000, Commonwealth Edison Company (ComEd), tendered for filing ten Short-Term Firm Transmission Service Agreements with The Energy Authority, Inc. (TEA) Merrill Lynch Capital Services, Inc. (MLCS), Niagara Mohawk Energy Marketing, Inc. (NMEM), PacifiCorp Power Marketing (PPM), PG&E Energy Trading—Power, L.P. (PG&E), PPL EnergyPlus, LLC (PPL), Public Service Company of Colorado (PSC), Public Service Electric and Gas Company (PSEG), Tennessee Power Company (TPCO), and Unicom Energy, Inc. (UEI) under the terms of ComEd's Open Access Transmission Tariff (OATT).

ComEd requests an effective date of August 11, 2000 for the Agreements, and accordingly, seeks waiver of the Commission's notice requirements.

Copies of this filing were served on TEA, MLCS, NMEM, PPM, PG&E, PPL, PSC, PSEG, TPCO and UEI.

Comment date: September 1, 2000, in accordance with Standard Paragraph E at the end of this notice.

12. Cinergy Services, Inc.

[Docket No. ER00-3403-000]

Take notice that on August 11, 2000, Cinergy Services, Inc. (Cinergy), tendered for filing a Market-Based Service Agreement under Cinergy's Market-Based Power Sales Standard Tariff-MB (the Tariff) entered into between Cinergy and H.Q. Energy Services (U.S.) Inc. (HQUS).

Cinergy and HQUS are requesting an effective date of July 17, 2000.

Comment date: September 1, 2000, in accordance with Standard Paragraph E at the end of this notice.

13. Southwest Power Pool, Inc.

[Docket No. ER00-3404-000]

Take notice that on August 11, 2000, Southwest Power Pool, Inc. (SPP), tendered for filing revised service agreements for Firm Point-to-Point Transmission Service, Non-Firm Point-to-Point Transmission Service and Loss Compensation Service with PPL EnergyPlus LLC. Earlier versions of these agreements identifying PPL Electric Utilities Corporation, d/b/a/ PPL Utilities as the Transmission Customer were filed by the Commission and accepted as Service Agreement Nos. 351, 352 and 353, respectively.

SPP seeks an effective date of July 20, 2000, for revised agreements.

Comment date: September 1, 2000, in accordance with Standard Paragraph E at the end of this notice.

14. Southwest Power Pool, Inc.

[Docket No. ER00-3405-000]

Take notice that on August 11, 2000, Southwest Power Pool, Inc. (SPP), tendered for filing executed service agreements for Firm Point-to-Point Transmission Service and Non-Firm Point-to-Point Transmission Service with Golden Spread Electric Cooperative, Inc. (Transmission Customer).

SPP seeks an effective date of August 10, 2000 for each of the service agreements.

Copies of this filing were served on the Transmission Customer.

Comment date: September 1, 2000, in accordance with Standard Paragraph E at the end of this notice.

15. Dayton Power and Light Company

[Docket No. ER00-3413-000]

Take notice that on August 11, 2000, Dayton Power and Light Company (Dayton), tendered for filing service agreements establishing with Cinergy Capital & Trading, Inc., as customers under the terms of Dayton's Open Access Transmission Tariff.

Dayton requests an effective date of one day subsequent to this filing for the service agreements. Accordingly, Dayton requests waiver of the Commission's notice requirements.

Copies of this filing were served upon with Cinergy Capital & Trading, Inc., and the Public Utilities Commission of Ohio.

Comment date: September 1, 2000, in accordance with Standard Paragraph E at the end of this notice.

16. Dayton Power and Light Company

[Docket No. ER00-3414-000]

Take notice that on August 11, 2000, Dayton Power and Light Company (Dayton), tendered for filing service agreements establishing Cinergy Capital & Trading, Inc., as customers under the terms of Dayton's Open Access Transmission Tariff.

Dayton requests an effective date of one day subsequent to this filing for the service agreements. Accordingly, Dayton requests waiver of the Commission's notice requirements.

Copies of this filing were served upon establishing Cinergy Capital & Trading, Inc., and the Public Utilities Commission of Ohio.

Comment date: September 1, 2000, in accordance with Standard Paragraph E at the end of this notice.

17. Dayton Power and Light Company

[Docket No. ER00-3415-000]

Take notice that on August 11, 2000, Dayton Power and Light Company (Dayton), tendered for filing service agreements establishing Amerada Hess Corporation as customers under the terms of Dayton's Open Access Transmission Tariff.

Dayton requests an effective date of one day subsequent to this filing for the service agreements. Accordingly, Dayton requests waiver of the Commission's notice requirements.

Copies of this filing were served upon establishing Amerada Hess Corporation and the Public Utilities Commission of Ohio.

Comment date: September 1, 2000, in accordance with Standard Paragraph E at the end of this notice.

18. Dayton Power and Light Company

[Docket No. ER00-3416-000]

Take notice that on August 11, 2000, Dayton Power and Light Company (Dayton), tendered for filing service agreements establishing with Amerada Hess Corporation as customers under the terms of Dayton's Open Access Transmission Tariff.

Dayton requests an effective date of one day subsequent to this filing for the service agreements. Accordingly, Dayton requests waiver of the Commission's notice requirements.

Copies of this filing were served upon with Amerada Hess Corporation and the Public Utilities Commission of Ohio.

Comment date: September 1, 2000, in accordance with Standard Paragraph E at the end of this notice.

19. CMS Marketing, Services and Trading Company

[Docket No. ER00-3152-001]

Take notice that on August 11, 2000, CMS Marketing, Services and Trading Company (CMS MST), tendered for filing, an amended Service Agreement establishing its public utility affiliate, Consumers Energy Company (CECo), as a customer. CECo's commitment made in the original July 14, 2000 application to exclude all purchases from CMS MST from any rate calculations for its ten wholesale requirements customers and twelve special contracts customers is proposed to be incorporated in the amended service agreement.

CMS MST also seeks waiver of any regulations of the Federal Energy Regulatory Commission necessary to permit an effective date of August 1, 2000, and a shortened notice period.

Comment date: September 1, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-21333 Filed 8-21-00; 8:45 am]

BILLING CODE 6717-01-P